DEPARTMENT OF AGRICULTURE

Agricultural Marketing Service

[Doc. No. TB-03-11]

Request for an Extension of and Revision to a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget, for an extension of and revision to the currently approved information collection in support of the Dairy and Tobacco Adjustment Act of 1983, the Rural Development, Food and Drug Administrative, and Related Agencies Appropriations Act for 2002 (Appropriations Act), and the Tobacco Inspection Act and Regulations Governing the Tobacco Standards.

DATES: Comments received by October 21, 2003, will be considered.

ADDITIONAL INFORMATION OR COMMENTS: Contact Kenneth E. Wall, Chief, Standardization and Review Branch, Tobacco Programs, Agricultural Marketing Service, U.S. Department of Agriculture, Room 511 Cotton Annex Building, Stop 0280, 1400 Independence Avenue, SW., Washington, DC 20250-0280, Telephone (202) 205-0744 and Fax (202) 250-1191.

SUPPLEMENTARY INFORMATION: Title: Reporting and Recording Requirements for 7 CFR Part 29.

OMB Number: 0581-0056.

Expiration Date of Approval: May 31, 2004.

Type of Request: Extension and revision of a currently approved information collection.

Abstract: The Tobacco Inspection Act (7 U.S.C. 511 et seq.) requires that all tobacco sold at designated auction markets in the U.S. be inspected and graded. Provision is also made for interested parties to request inspection and grading services on an as needed basis. The Appropriations Act (7 U.S.C. 511s) requires that all tobacco eligible for price support in the U.S. be inspected and graded. Also, the Dairy and Tobacco Adjustment Act of 1983 (7 U.S.C. 511r) requires the Secretary to inspect all tobacco offered for importation into the United States for grade and quality, except cigar and oriental tobacco, which must be certified by the importer as to kind and type, and in the case of cigar tobacco, that such tobacco will be used solely in the manufacture of cigars.

The information collection requirements authorized for the programs under the Tobacco Inspection Act, Appropriations Act, and the Dairy Tobacco Adjustment Act of 1983 include: Application for inspection of tobacco, application and other information used in the approval of new auction markets or the extension of services to designated tobacco markets, and information required to be provided in connection with auction and non-auction sales.

Estimate of Burden: Public reporting burden for this collection of information is estimated to average 0.56 hours per response.

Respondents: Primarily tobacco companies, tobacco manufacturers, import inspectors, and small business or organizations.

Estimated Number of Respondents: 634.

Estimated Number of Responses per Respondent: 13.

Estimated Number of Responses: 8057.

Estimated Total Annual Burden on Respondents: 4,547.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Kenneth E. Wall, Chief, Standardization and Review Branch, Tobacco Programs, Agricultural Marketing Service, U.S. Department of Agriculture, Room 511 Cotton Annex Building, Stop 0280, 1400 Independence Avenue, SW., Washington, DC 20250-0280. All comments received will be available for public inspection during regular business hours at the same address.

All responses to this notice will be summarized and included in the request for OMB approval. All comments will become a matter of public record.

Dated: August 18, 2003.
A.J. Yates,
Administrator, Agricultural Marketing Service.

[FR Doc. 03-21531 Filed 8-21-03; 8:45 am]

BILLING CODE 3410-02-P